DEPARTMENT OF ENERGY

Federal Energy Regulatory Commission

Notice of Revised Landowner Pamphlet

March 24, 2000.

The “most recent edition” of the Commission's pamphlet: “An Interstate Natural Gas Facility on My Land? What Do I Need to Know?” has been issued. It is dated March 2000. The revisions are marked by a blue triangle in the margin and were made to conform to the recent rehearing Order 609 A.

The revised pamphlet is available on the Commission's website. From the home page at www.ferc.fed.us select the link to the Office of External Affairs in the lower right column of links, or enter www.ferc.fed.us/intro/oea directly into your browser. The link to the revised pamphlet (www.ferc.fed.us/intro/oea/6513gpo.pdf) is on this page. This version should be used and may be copied until the full color version of the pamphlet is available through the Government Printing Office (GPO). The Commission will issue a further notice when the pamphlet may be obtained from the GPO.

Questions about the pamphlet should be directed to: Federal Energy Regulatory Commission, Office of External Affairs, 888 First Street, N.E., Washington, DC 20426, (202) 208-1088.

David P. Boergers,
Secretary.

[FR Doc. 00-7789 Filed 3-30-00; 8:45 am]

BILLING CODE 6717-01-M